DEPARTMENT OF COMMERCE

National Oceanic and Atmospheric Administration

Availability of Final Evaluation Findings of State Coastal Programs and National Estuarine Research Reserves

AGENCY: Office for Coastal Management (OCM), National Ocean Service (NOS), National Oceanic and Atmospheric Administration (NOAA), Department of Commerce (DOC).

ACTION: Notice of availability of evaluation findings.

SUMMARY: Notice is hereby given of the availability of final evaluation findings of state coastal programs and national estuarine research reserves. The NOAA Office for Coastal Management has completed review of the Coastal Zone Management Program evaluations for the states and territories of California, Commonwealth of the Northern Mariana Islands, Delaware, Georgia, Hawaii, Minnesota, Mississippi, Pennsylvania, Rhode Island, South Carolina, and Wisconsin. In addition, the NOAA Office for Coastal Management has completed review of the National Estuarine Research Reserve evaluations for Great Bay, Hudson River, Kachemak Bay, North Inlet-Winyah Bay, Old Woman Creek, and Rookery Bay, and Sapelo Island. Copies of these final evaluation findings may be downloaded at http://coast.noaa.gov/czm/evaluations/evaluation_findings/index.html or by submitting a written request to the person identified under FOR FURTHER INFORMATION CONTACT.

FOR FURTHER INFORMATION CONTACT: Carrie Hall, Evaluator, Planning and Performance Measurement Program, Office for Coastal Management at Carrie.Hall@noaa.gov or (240) 530-0730.

SUPPLEMENTARY INFORMATION: The states and territories were found to be implementing and enforcing their federally approved Coastal Zone Management Programs, addressing the national coastal management objectives identified in CZMA Section 303(2), and adhering to the programmatic terms of their financial assistance awards. The reserves were found to be adhering to programmatic requirements of the National Estuarine Research Reserve System.

Keelin Kuipers,
Deputy Director, Office for Coastal Management, National Ocean Service, National Oceanic and Atmospheric Administration.

[FR Doc. 2020-22460 Filed 10-8-20; 8:45 am]

BILLING CODE 3510-JE-P